DEPARTMENT OF THE INTERIOR

Bureau of Land Management

[LLCAN10000.L18200000.XZ0000]

Notice of Intent To Establish and Call for Nominations for the Northern California District Resource Advisory Council

AGENCY: Bureau of Land Management, Interior.

ACTION: Notice.

SUMMARY: The BLM is publishing this notice in accordance with the Federal Land Policy and Management Act (FLPMA) and the Federal Advisory Committee Act (FACA). The Bureau of Land Management (BLM) gives notice that the Secretary of the Interior is establishing the Northern California District Resource Advisory Council (RAC) to represent the district covering the northern portion of the state. This notice is also to solicit public nominations for the council. The RAC provides advice and recommendations on land use planning and management of public lands within its geographic area.

DATES: All nominations must be received by March 24, 2014.

ADDRESSES: Nominations should be submitted to Bureau of Land Management, 2950 Riverside Dr., Susanville, CA 96130, Attention: RAC Nominations.

FOR FURTHER INFORMATION CONTACT: Nancy Haug, BLM Northern California District Manager, 530-224-2160; or Joseph J. Fontana, BLM Public Affairs Officer, 530-252-5332.

SUPPLEMENTARY INFORMATION: FLPMA (43 U.S.C. 1739) directs the Secretary of the Interior to involve the public in planning and issues related to management of lands administered by the BLM. Section 309 of FLPMA directs the Secretary to establish 10- to 15-member citizen-based advisory councils that are consistent with FACA. The rules governing RACs are found at 43 CFR subpart 1784. As required by FACA, RAC membership must be balanced and representative of the various interests concerned with the management of the public lands. These include three categories:

Category One—Holders of Federal grazing permits and representatives of organizations associated with energy and mineral development, timber industry, transportation or rights of way, developed outdoor recreation, off-highway vehicle use, and commercial recreation;

Category Two—Representatives of nationally or regionally recognized environmental organizations; archaeological and historic organizations, dispersed recreation activities, and wild horse and burro organizations; and

Category Three—Representatives of State, county or local elected office; representatives and employees of a State agency responsible for managing natural resources; representatives of Indian tribes adjacent to or within the area for which the council is organized; representatives of academia who are employed in natural sciences; and the public at large.

Individuals may nominate themselves or others. Nominees must be residents of the district in which the RAC has jurisdiction. The BLM will evaluate nominees based on their education, training, experience, and knowledge of the geographic area of the RAC. Nominees should demonstrate a commitment to collaborative resource decision-making. The Obama Administration prohibits individuals who are currently federally registered lobbyists to serve on all FACA and non-FACA boards, committees or councils. The following must accompany all nominations:

—Letters of reference from represented interests or organizations;

—A completed background information nomination form; and

—Any other information that addresses the nominee's qualifications.

Simultaneous with this notice, the BLM Northern California District Office will issue a press release providing additional information for submitting nominations, with the specifics about the number and categories of member positions available.

Certification Statement: I certify that the BLM Northern California District Resource Advisory Council is necessary and in the public interest in connection with the Secretary's responsibilities to manage the lands, resources and facilities administered by the BLM.

(Authority: 43 CFR 1784.4-1)

Dated: January 24, 2014.
Sally Jewell,
Secretary of the Interior.

[FR Doc. 2014-02544 Filed 2-5-14; 8:45 am]

BILLING CODE 4310-$40-P